DEPARTMENT OF DEFENSE

Department of the Army, Corps of Engineers

Availability of the Revised Draft Environmental Impact Statement for the Lower Bois d'Arc Creek Reservoir Project, Fannin County, TX

AGENCY: Department of the Army, U.S. Army Corps of Engineers, DoD.

ACTION: Notice of availability.

SUMMARY: The U.S. Army Corps of Engineers (USACE) Tulsa District has prepared a Revised Draft Environmental Impact Statement (RDEIS) to analyze the direct, indirect and cumulative effects of the construction of the proposed Lower Bois d'Arc Creek Reservoir (LBCR) and related actions proposed by the North Texas Municipal Water District (NTMWD) in Fannin County, Texas. The Proposed Action is a regional water supply project intended to provide up to 175,000 acre-feet/year (AFY), with an estimated firm yield of 120,665 AFY, of new water for NTMWD's member cities and direct customers in all or portions of nine counties in northern Texas—Collin, Dallas, Denton, Fannin, Hopkins, Hunt, Kaufman, Rains and Rockwall. Construction of the reservoir and related facilities would result in permanent impacts to approximately 5,874 acres of wetlands and 651,140 linear feet of streams, and 78 acres of open waters. This action requires authorization from the USACE under Section 404 of the Clean Water Act (CWA). The Section 404 of the CWA permit applicant is the NTMWD.

The RDEIS was prepared in accordance with the National Environmental Policy Act (NEPA) of 1969, as amended, and the USACE's regulations for NEPA implementation (33 Code of Federal Regulations [CFR] parts 230 and 325 (with associated Appendices B and C). The USACE, Tulsa District, Regulatory Office is the lead federal agency responsible for the RDEIS and information contained in the EIS will serve as the basis for a decision whether or not to issue a Section 404 of the CWA permit. It also provides information for Federal, State and local agencies having jurisdictional responsibility for affected resources.

DATES: Written comments on the RDEIS will be accepted on or before May 11, 2017.

ADDRESSES: Send written comments regarding the RDEIS to Mr. Andrew R. Commer, Regulatory Office Chief, USACE Tulsa District (CESWT-RO), 1645 South 101st East Avenue, Tulsa, Oklahoma 74128-4609, or via email: ceswt-ro@usace.army.mil. Comments submitted by email must include “RDEIS Lower Bois d'Arc Creek Reservoir” in the subject line. Requests to be placed on or removed from the mailing list should also be sent to this address.

FOR FURTHER INFORMATION CONTACT: Mr. Andrew R. Commer, USACE, Tulsa District Regulatory Office, at 918-669-7400.

SUPPLEMENTARY INFORMATION: The USACE has determined that the basic project purpose in the present case is to develop an additional, reliable water supply for the applicant (NTMWD) and its member cities and customers.

The purpose of the RDEIS is to provide decision-makers and the public with information pertaining to the Proposed Action and alternatives, and to disclose environmental impacts and identify mitigation measures to reduce impacts. NTMWD proposes to build the LBCR with a total storage capacity of approximately 367,609 AF. A dam approximately 10,400 feet (about two miles) long and up to 90 feet high would be constructed, and much of the reservoir footprint would be cleared of trees and built structures. NTMWD also proposes to construct several related facilities or connected actions. These include a raw water intake pump station and electrical substation at the reservoir site, as well as a 90-96 inch diameter buried pipeline to carry raw water from the new reservoir approximately 35 miles in a southwesterly direction to a new water treatment plant and terminal storage reservoir that would be located west of the City of Leonard, also in Fannin County, Texas. A number of rural roads within the footprint and in the vicinity of the proposed reservoir would have to be closed or relocated; the most significant of these is FM 1396, which would be relocated to cross the reservoir in a different alignment on an entirely new bridge that would need to be constructed.

An aquatic resources mitigation plan has been prepared by the applicant to comply with the federal policy of “no overall net loss of wetlands” and to provide compensatory mitigation, to the extent practicable, for impacts to other waters of the U.S. that would be impacted by construction of the proposed reservoir. NTMWD has purchased a 14,960-acre parcel of land known as the Riverby Ranch, which borders the Red River. This working ranch is located downstream of the proposed project within both the same watershed (Bois d'Arc Creek) and the same county (Fannin). NTMWD acquired the Riverby Ranch specifically because its biophysical features have the potential to provide a portion of the appropriate mitigation for the proposed project. Additional mitigation is proposed within a 1,900-acre upstream site and within the proposed reservoir itself. Though not part of the proposed mitigation plan, Bois d'Arc Creek downstream of the reservoir will receive environmental flow releases as a result of an operations plan and flow regime established in consultation with the Texas Commission on Environmental Quality (TCEQ), and stipulated in the Water Right Permit issued by TCEQ to NTMWD.

The U.S. Environmental Protection Agency Region VI, U.S. Forest Service, U.S. Fish and Wildlife Service, and the Texas Parks and Wildlife Department (TPWD) participated as cooperating agencies in the formulation of the Draft EIS.

1. On December 8, 2009, the USACE held a NEPA EIS public scoping meeting in Bonham, Texas. On March 24, 2015, the USACE held a public meeting during the comment period on the previous DEIS. The revision and publication of this RDEIS is informed by public and agency comment on the original DEIS and changes have been made to address commented issues. No public meeting is planned during this comment period. Copies of the RDEIS will be available for review during the comment period at the USACE Tulsa District Office, the permit applicant's office in Wylie Texas, and at five locations in the project area in Fannin County, Texas, addresses of each as follows.

2. Bonham Public Library, 305 East 5th Street, Bonham, TX 75418; (903) 583-3128.

3. Sam Rayburn Library, 800 West Sam Rayburn Drive, Bonham, TX 75418; (903) 583-2455.

4. Bertha Voyer Memorial Library, 500 6th Street, Honey Grove, TX 75446; (903) 378-2206.

5. Leonard Public Library, 102 South Main Street, Leonard, TX 75452; (903) 587-2391.

6. North Texas Municipal Water District headquarters, 505 East Brown Street, Wylie, TX 75098.

7. U.S. Army Corps of Engineers, Tulsa District, Regulatory Office, 1645 South 101st East Avenue, Tulsa, OK 74128-4609.

Electronic copies of the Draft EIS may be obtained from the USACE Tulsa District, Regulatory Office or its Web site at http://www.swt.usace.army.mil/Missions/Regulatory/Tulsa-District-Environmental-Impact-Statements/.

Brenda S. Bowen,
Army Federal Register Liaison Officer.

[FR Doc. 2017-05874 Filed 3-24-17; 8:45 am]

BILLING CODE 3720-58-P